DEPARTMENT OF COMMERCE

National Oceanic and Atmospheric Administration

[RTID 0648-XB460]

Marine Mammals; File No. 25794

AGENCY: National Marine Fisheries Service (NMFS), National Oceanic and Atmospheric Administration (NOAA), Commerce.

ACTION: Notice; receipt of application.

SUMMARY: Notice is hereby given that Jennifer Burns, Ph.D., Texas Tech University, Biology Department, 2901 Main Street Lubbock, TX 79409-3131 has applied in due form for a permit to import and export specimens of gray seals (Halichoerus grypus) for scientific research.

DATES: Written, telefaxed, or email comments must be received on or before November 4, 2021.

ADDRESSES: The application and related documents are available for review by selecting “Records Open for Public Comment” from the “Features” box on the Applications and Permits for Protected Species (APPS) home page, https://apps.nmfs.noaa.gov, and then selecting File No. 25794 from the list of available applications. These documents are also available upon written request via email to NMFS.Pr1Comments@noaa.gov.

Written comments on this application should be submitted via email to NMFS.Pr1Comments@noaa.gov. Please include File No. 25794 in the subject line of the email comment.

Those individuals requesting a public hearing should submit a written request via email to NMFS.Pr1Comments@noaa.gov. The request should set forth the specific reasons why a hearing on this application would be appropriate.

FOR FURTHER INFORMATION CONTACT: Jennifer Skidmore or Sara Young, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to import and export of parts collected from gray seals at Sable Island, Nova Scotia for the purpose of studying the role of maternal iron transfer in the development of heme stores and aerobic diving capacity in gray seal pups. Samples will be imported and exported from up to 35 males, 51 females and 16 pups (of either sex) per year. In addition, the applicant is proposing to opportunistically import and export of samples from 100 gray seals from Canada DFO archives and organs opportunistically salvaged from up to 20 deceased gray seals in Canada. Samples would include blood, milk, whiskers, nails, fur, blubber, muscle, scat, spew, saliva, and urine. Samples will be imported from Canada through Houston/Dallas (Texas Tech University), Boston (Woods Hole), or Los Angeles/Seattle/Anchorage (University of Alaska Fairbanks). Samples may also be re-exported back to Canada. A permit is requested for a duration of five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 30, 2021.
Benjamin Laws,
Acting Chief, Permits and Conservation Division, Office of Protected Resources, National Marine Fisheries Service.

[FR Doc. 2021-21647 Filed 10-4-21; 8:45 am]

BILLING CODE 3510-22-P